DEPARTMENT OF DEFENSE

Department of the Navy

Nominations for Membership on Ocean Research Advisory Panel (ORAP)

AGENCY: Department of the Navy, DOD.

ACTION: Notice.

SUMMARY: The Ocean Research Advisory Panel (ORAP) is soliciting nominations for new members.

DATES: Nominations should be submitted no later than Friday, February 25, 2005.

ADDRESSES: Nominations should be submitted via e-mail to LT Cory Huyssoon, U.S. Navy, at huyssoc@onr.navy.mil. Contact telephone number, 703-696-4395.

FOR FURTHER INFORMATION CONTACT: Dr. Melbourne G. Briscoe, Office of Naval Research, 800 North Quincy Street, Arlington, VA 22217-5660, telephone 703-696-4120.

SUPPLEMENTARY INFORMATION: ORAP is a statutorily mandated federal advisory committee that provides senior scientific advice to the National Oceanographic Research Leadership Council (NORLC), the governing body of the National Oceanographic Partnership Program (NOPP). ORAP advises the NORLC on policies, procedures, selection of projects and the allocation of funds, as well as other responsibilities that NORLC considers appropriate.

Panel Member Duties and Responsibilities: Members of the panel represent the National Academy of Sciences, the National Academy of Engineering, the Institute of Medicine, ocean industries, state governments, academia, and others including individuals who are eminent in the fields of marine science, marine policy, or related fields. Members are appointed for not more than four years, and are not normally compensated except for travel expenses and per diem while away from their homes in performance of services for the panel.

The panel meets for at least one two-day public meeting per year, but possibly meets three times per year, on dates agreeable by the panel members; attendance at meetings is expected. Intercessional activities may be carried out electronically, and the panel may establish sub-panels composed of less than full membership to carry out panel duties.

Nominations: Any interested person or organization may nominate qualified individuals for membership on the panel. Nominated individuals should have extended expertise and experience in the field of ocean science. Nominations should be identified by name, occupation, position, address, telephone number, e-Mail address, and a brief paragraph describing their qualifications in the context of the ORAP Charter (http://www.nopp.org/Dev2Go.web?id=221086). It would be most helpful if a résumé or curriculum vitae is included.

Process and Deadline for Submitting Nominations: Submit nominations via e-Mail to huyssoc@onr.navy.mil no later than February 25, 2005. Nominations will be acknowledged and nominators will be informed of the new panel members, which are ultimately selected and approved. From the nominees identified by respondents to this Federal Register notice, the ORAP Nomination Committee will down select to a short-list of available candidates (150% of the available open positions for consideration). The selected candidates will be required to fill-out the “Confidential Financial Disclosure Report” OGE Form 450. This confidential form will allow Government officials to determine whether there is a statutory conflict between the person's public responsibilities and private interests and activities, or the appearance of a lack of impartiality, as defined by Federal regulation. The OGE Form 450 and additional guidance may be viewed from the following URL address: (http://www.ethics.navy.mil/forms.asp#450).

In accordance with section 7903 of title 10, United States Code, the short-list of candidates will then be submitted for approval by the Secretary of the Navy with concurrence by the Secretary of Defense. In order to have the collective breadth of experience in the panel and maintain full panel membership, six new candidates are expected to be selected with terms to begin in July 2005.

The selection of new panel members will be based on the nominee's qualifications to provide senior scientific advice to the NORLC; the availability of the potential panel member to fully participate in the panel meetings; absence of any conflict of interest or appearance of lack of impartiality, and lack of bias; the candidates' areas of expertise and professional qualifications; and achieving an overall balance of different scientific perspectives and expertise on the panel.

Dated: January 13, 2005.
I.C. Le Moyne Jr.,
Lieutenant, Judge Advocate General's Corps, U.S. Navy, Alternate Federal Register Liaison Officer.

[FR Doc. 05-1294 Filed 1-24-05; 8:45 am]

BILLING CODE 3810-FF-P